DEPARTMENT OF LABOR

Mine Safety and Health Administration

Proposed Information Collection Request Submitted for Public Comment and Recommendations; Product Testing by Applicant or Third Party

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before June 26, 2000.

ADDRESSES: Written comments shall be mailed to Theresa M. O'Malley, Program Analysis Officer, Office of Program Evaluation and Information Resources, 4015 Wilson Boulevard, Arlington, VA 22203-1984. Commenters are encouraged to send their comments on a computer disk, or via Internet E-mail to tomalley@msha.gov, along with an original printed copy. Ms. O'Malley can be reached at (703) 235-1470 (voice) or (703) 235-156351 (facsimile).

FOR FURTHER INFORMATION CONTACT: Theresa M. O'Malley, Program Analysis Officer, Office of Program Evaluation and Information Resources, U.S. Department of Labor, Mine Safety and Health Administration, Room 715, 4015 Wilson Boulevard, Arlington, VA 22203-1984. Ms. O'Malley can be reached at tomalley@msha.gov (Internet E-mail), (703) 235-1470 (voice), or (703) 235-1563 (facsimile).

SUPPLEMENTARY INFORMATION:

I. Background

Section 318 of the Federal Mine Safety and Health Act of 1977, 30 U.S.C. 878, defines “permissible” equipment as that which has been approved according to specifications which are prescribed by the Secretary of Labor. This approval indicates that the Mine Safety and Health Administration's specifications and tests, designed to ensure that a product will not present a fire, explosion, or other specific safety hazard related to use, have been met. Additionally, 30 CFR Part 7 provides procedures whereby products may be tested and certified by the applicant or a third party.

II. Desired Focus of Comments

Currently, the Mine Safety and Health Administration (MSHA) is soliciting comments concerning the proposed extension of the information collection related to “Product Testing by Applicant or Third Party.” MSHA is particularly interested in comments which:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission or responses.

A copy of the proposed information collection request may be viewed on the Internet by assessing the MSHA Home Page (http://www.msha.gov) under “Statutory and Regulatory Information” then selecting “Paperwork Reduction Act submissions (http://www.msha.gov/regspwork.htm)”, or by contacting the employee listed above in the For Further Information Contact section of this notice for a hard copy.

III. Current Actions

MSHA is seeking to continue the requirements for approving certain products and equipment for use in underground mines.

Type of Review: Extension.

Agency: Mine Safety and Health Administration.

Title: Product Testing by Applicant or Third Party.

OMB Number: 1219-0100.

Recordkeeping: 30 CFR 7.4(a) requires respondents to maintain records of test results and procedures for a period of at least 3 years. Section 7.6(c) requires respondents to maintain records of the initial sale of each unit having an approval marking for at least the expected shelf life of and service life of the product.

Affected Public: Businesses or other for-profit.

Total Respondents: 391.

Frequency: On occasion.

Total Responses: 564 responses.

Average Time per Response: 2.81 hours.

Estimated Total Burden Hours: 1,585 hours.

Estimated Total Burden Cost: $114,103.

Total Annualized Costs: $0.

Total Operation/Maintenance Costs: $554,199.

Comments submitted in response to this notice will be summarized and included in the request for Office of Management and Budget approval of the information collection request. They will also become a matter of public record.

Dated: April 20, 2000.
Theresa M. O'Malley,
Program Analysis Officer, Office of Program Evaluation and Information Resources.

[FR Doc. 00-10383 Filed 4-25-00; 8:45 am]

BILLING CODE 4510-43-M